DEPARTMENT OF LABOR

Employment and Training Administration

[TA-W-65,374]

Rohm And Haas Company, LLC, West Alexandria, OH; Notice of Termination of Investigation

Pursuant to Section 221 of the Trade Act of 1974, as amended, an investigation was initiated on February 25, 2009, in response to a worker petition filed on behalf of workers at Rohm and Haas Company, LLC, West Alexandria, Ohio.

The petitioner has requested that the petition be withdrawn. Consequently, the investigation has been terminated.

Signed at Washington, DC this 13th day of March 2009.
Elliott S. Kushner,
Certifying Officer, Division of Trade Adjustment Assistance.

[FR Doc. E9-6531 Filed 3-24-09; 8:45 am]

BILLING CODE 4510-FN-P